DEPARTMENT OF JUSTICE

Antitrust Division

Notice Pursuant to the National Cooperative Research and Production Act of 1993—Teaming Agreement for Implementation of the Advanced Gun Systems Program

Notice is hereby given that, on April 17, 2000, pursuant to section 6(a) of the National Cooperative Research and Production Act of 1993, 15 U.S.C. 4301 et seq. (“the Act”), United Defense, L.P. has filed written notifications simultaneously with the Attorney General and the Federal Trade Commission disclosing (1) the identifies of the parties and (2) the nature and objectives of the venture. The notifications were filed for the purpose of invoking the Act's provision limiting the recovery of antitrust plaintiffs to actual damages under specified circumstances. Pursuant to section 6(b) of the Act, the identities of the parties are United Defense, L.P., Arlington, VA; and General Dynamics Armament Systems, Inc., Burlington, VT which are controlled by UDLP Holding Corporation, Washington, DC; and United Defense Industries, Inc., Washington, DC respectively. The nature of the venture is the development of the Advanced Gun Systems (“AGS”) Program. The U.S. Navy currently is developing its next generation class of destroyers, the DD-21. The overall requirement for the DD-21 is to provide the equivalent of land-based artillery gunfire until Marine and Army maneuver forces are established ashore, then assist those forces in fire support. The primary armament for the DD-21 is the AGS which is currently in the concept development and trade studies stage.

The objective of the parties is to form an exclusive team for all phases and stages of the AGS Program, including further system development and production.

Constance K. Robinson,
Director of Operations, Antitrust Division.

[FR Doc. 01-5719 Filed 3-7-01; 8:45 am]

BILLING CODE 4410-11-M